DEPARTMENT OF COMMERCE

National Oceanic and Atmospheric Administration

50 CFR Parts 223 and 226

[Docket No.: 201228-0358]

RIN 0648-BJ65

Endangered and Threatened Species; Designation of Critical Habitat for the Beringia Distinct Population Segment of the Bearded Seal

Correction

In notice document 2020-29006, appearing on pages 1433 through 1452 in the issue of Friday, January 8, 2021 make the following correction.

On page 1433, in the third column, on the eleventh line, “March 9, 2020” should read “March 9, 2021”.

[FR Doc. C1-2020-29006 Filed 1-26-21; 8:45 am]

BILLING CODE 1300-01-D